DEPARTMENT OF THE INTERIOR

National Park Service

Notice of Intent To Prepare a General Management Plan and Environmental Impact Statement

SUMMARY: Pursuant to section 102(2)(C) of the National Environmental Policy Act of 1969, the National Park Service announces its intent to prepare a General Management Plan and Environmental Impact Statement (GMP/EIS) for the Statue of Liberty National Monument and Ellis Island, New Jersey and New Jersey and New York. The park comprises Liberty Island (12.5 acres), site of the “Statue of Liberty Enlightening the World”, and Ellis Island (27.5 acres), containing the Immigration Museum and other historic structures that formed the immigration station. Prepared by planners in the NPS Northeast Region, with assistance from advisors and consultants, the GMP/EIS will propose a long-term approach to managing the Statue of Liberty National Monument and Ellis Island. Consistent with the monument's mission, NPS policy, and other laws and regulations, alternatives will be developed to guide the management of the monument over the next 15 to 20 years. The alternatives will incorporate various zoning and management prescriptions to ensure resource preservation and public enjoyment of the monument. The environmental consequences that could result from implementing the various alternative will be evaluated in the plan. Impact topics will include cultural and natural resources, visitor experience, park operations, the socioeconomic environment, impairment, and sustainability. The public will be invited to express concerns about the management of the monument early in the process through public meetings and other media; and will have an opportunity to review and comment on a draft GMP/EIS. Following public review processes outlined under NEPA, the final plan will become official, authorizing implementation of a preferred alternative. the target date for the Record of decision is March 2006.

FOR FURTHER INFORMATION CONTACT: Superintendent, Statue of Liberty National Monument and Ellis Island, New York, (212) 363-3206.

Dated: April 21, 2003.
Cynthia Garrett,
Acting Superintendent, Statue of Liberty National Monument and Ellis Island.

[FR Doc. 03-13330 Filed 5-28-03; 8:45 am]

BILLING CODE 4310-6E-M